SECURITIES AND EXCHANGE COMMISSION

Agency Meeting

Federal Register Citation of Previous Announcement: [67 FR 66433, October 31, 2002].

Status: Open Meeting.

Place: 450 Fifth Street, NW., Washington, DC.

Date and Time of Previously Announced Meeting: November 6, 2000.

Change in the Meeting: Room Change.

The Open Meeting scheduled for Wednesday, November 6, 2002 at 10 a.m. will be held in Room 1C30, the William O. Douglas Room.

At times, changes in Commission priorities require alterations in the scheduling of meeting items. For further information and to ascertain what, if any, matters have been added, deleted or postponed, please contact:

The Office of the Secretary at (202) 942-7070.

Dated: November 1, 2002.
Margaret H. McFarland,
Deputy Secretary.

[FR Doc. 02-28325 Filed 11-4-02; 11:45 am]

BILLING CODE 8010-01-M